DEPARTMENT OF THE INTERIOR

Bureau of Land Management

[234.LLID910000.L18200000.XZ0000.241A0 MO #4500167688]

Notice of Public Meeting of the Idaho Resource Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM) Idaho Resource Advisory Council (RAC) will meet as indicated below.

DATES: The Idaho RAC will host a meeting on Friday, March 17, 2023, from 9 a.m. to 4 p.m. Mountain Time. Public notice of any changes to this schedule will be posted on the Idaho RAC web page (see ADDRESSES) 15 days in advance of the meeting.

ADDRESSES: The Idaho RAC meeting will be held virtually on the Zoom platform and registration information will be available on the RAC's web page 15 days in advance of the meeting at https://www.blm.gov/get-involved/resource-advisory-council/near-you/idaho.

FOR FURTHER INFORMATION CONTACT: Idaho RAC Coordinator MJ Byrne, telephone: (208) 373-4006, email: mbyrne@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Idaho RAC serves in an advisory capacity to BLM officials concerning issues relating to land use planning and management of public land resources located within the State of Idaho. The Idaho RAC is chartered and the 15 members are appointed by the Secretary of the Interior. Their diverse perspectives are represented in commodity, non-commodity, and local interests.

Agenda items for the meeting will include recommendations for consideration to the Idaho RAC on the Lava Ridge Wind Project Draft Environmental Impact Statement and any Subcommittee findings. Final agendas will be posted on the RAC web page listed in the ADDRESSES section of this notice.

The meeting is open to the public. Individuals who plan to attend and need special assistance, such as sign language interpretation or other reasonable accommodations, should contact the BLM (see FOR FURTHER INFORMATION CONTACT). A public comment period will be offered at 1 p.m. Depending on the number of persons wishing to speak and the time available, the amount of time for oral comments may be limited. Written public comments may be sent to the BLM Idaho State Office listed in the ADDRESSES section of this notice. All comments received at least 1 week prior to the meeting will be provided to the Idaho RAC. Please include “RAC comment” in your submission.

Before including your address, phone number, email address, or other personal identifying information in your comments, please be aware that your entire comment—including your personal identifying information—may be made publicly available at any time. While you can ask us in your comments to withhold your personal identifying information from public review, we cannot guarantee that we will be able to do so.

Detailed summary minutes for the Idaho RAC are maintained in the BLM Idaho State Office and will be available for public inspection and reproduction during regular business hours within 30 days of the meetings. Previous minutes and agendas are also available on the Idaho RAC web page listed earlier.

(Authority: 43 CFR 1784.4-2.)

Karen Kelleher,
Idaho State Director.

[FR Doc. 2023-03937 Filed 2-24-23; 8:45 am]

BILLING CODE 4331-19-P